ENVIRONMENTAL PROTECTION AGENCY

[FRL-8702-5]

Notice of Disclosure of Confidential Business Information Obtained Under the Comprehensive Environmental Response, Compensation and Liability Act to CACI, Inc., Subcontractor of EPA Contractor U.S. Department of Justice

AGENCY: Environmental Protection Agency.

ACTION: Notice, request for comment.

SUMMARY: The U. S. Environmental Protection Agency (“EPA”) hereby complies with the requirements of 40 CFR 2.310(h) for authorization to disclose confidential business information (“CBI”) submitted to EPA Region 9 pursuant to CERCLA to U.S. Department of Justice contractor CACI, Inc., of Arlington, Virginia.

DATES: Comments may be submitted by August 25, 2008.

ADDRESSES: Comments should be sent to: Keith Olinger, Environmental Protection Agency, Region 9, SFD-7-5, 75 Hawthorne Street, San Francisco, CA 94105, (415) 972-3125.

FOR FURTHER INFORMATION CONTACT: Keith Olinger, Superfund Division, Environmental Protection Agency, Region 9, SFD-7-5, 75 Hawthorne Street, San Francisco, CA 94105, (415) 972-3125.

Notice of Required Determinations, Contract Provisions and Opportunity to Comment:

The Comprehensive Environmental Response, Compensation, and Liability Act of 1980 (“CERCLA”), as amended (commonly known as “Superfund”), requires completion of enforcement activities at Superfund sites in concert with other site events. EPA has entered into a contract with the U.S. Department of Justice (“DOJ”), Interagency Agreement No. DW-15-95566201, for enforcement support in relation to the Operating Industries, Inc. Superfund Site, Inc. pursuant to DOJ's MEGA3 contract with CACI, Inc., Contract No. DJJ07-C-1521.

Enforcement support services will be provided to EPA by CACI, Inc. EPA has determined that disclosure of CBI to CACI, Inc., and its employees, is necessary in order for the company to carry out its work for EPA under its contract with the DOJ. The information EPA intends to disclose includes submissions made by Potentially Responsible Parties to EPA in accordance with EPA's enforcement activities at the Operating Industries Inc., Superfund Site. The information would be disclosed to the above-named DOJ contractor, CACI, Inc. for any of the following reasons: to assist with document handling, inventory, and indexing; to assist with document review and analysis; to verify completeness; and to provide technical review of submittals. The contract complies with all requirements of 40 CFR 2.310(h)(2). EPA Region 9 will require that each of the contractor's employees with access to CBI sign a written agreement that he or she: (1) Will use the information only for the purpose of carrying out the work required by the contract, (2) will refrain from disclosing the information to anyone other than EPA without prior written approval of each affected business or of an EPA legal office, and (3) will return to EPA all copies of the information (and any abstracts or extracts therefrom) upon request from the EPA program office, whenever the information is no longer required by the contractor for performance of the work required by the contract or upon completion of the contract.

Dated: July 24, 2008.
Sheryl Bilbrey,
Acting Director, Superfund Division, Region IX.

[FR Doc. E8-18481 Filed 8-8-08; 8:45 am]

BILLING CODE 6560-50-P